DEPARTMENT OF TRANSPORTATION

Federal Aviation Administration

14 CFR Part 39

[Docket No. 2000-SW-34-AD; Amendment 39-12087; AD 2001-02-03]

RIN 2120-AA64

Airworthiness Directives; Bell Helicopter Textron Canada Model 206A, B, L, L1, and L3 Helicopters

AGENCY: Federal Aviation Administration, DOT.

ACTION: Final rule.

SUMMARY: This amendment adopts a new airworthiness directive (AD) for Bell Helicopter Textron Canada (BHTC) Model 206A, B, L, L1, and L3 helicopters. This AD requires inspecting the collective lever assembly (assembly) for a raised forging boss, inspecting the assembly for adequate clearance between the collective lever and the swashplate outer ring (outer ring), and modifying any assembly with a raised forging boss and inadequate clearance before further flight. Modifying any assembly that has a raised forging boss and adequate clearance would be required before further flight after January 31, 2001. This AD is prompted by the discovery that a raised forging boss could result in control system interference. The actions specified by this AD are intended to prevent interference between the collective lever and the outer ring, damage to flight controls, and subsequent loss of control of the helicopter.

DATES: Effective March 9, 2001.

The incorporation by reference of certain publications listed in the regulations is approved by the Director of the Federal Register as of March 9, 2001.

ADDRESSES: The service information referenced in this AD may be obtained from Bell Helicopter Textron Canada, 12,800 Rue de l'Avenir, Mirabel, Quebec JON1LO, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION: A proposal to amend part 39 of the Federal Aviation Regulations (14 CFR part 39) to include an AD for BHTC Model 206A, B, L, L1, and L3 helicopters was published in the Federal Register on September 11, 2000 (65 FR 54888). That action proposed to require, for each assembly, P/N 206-010-467-001:

• Within 30 days, inspecting for a raised forging boss and for adequate clearance;

• Before further flight, modifying any collective lever if the clearance is 0.060 inch (1.52mm) or less between the assembly and the outer ring; and

• Before further flight after January 31, 2001, modifying any assembly that has a forging boss and adequate clearance.

Interested persons have been afforded an opportunity to participate in the making of this amendment. No comments were received on the proposal or the FAA's determination of the cost to the public. The FAA has determined that air safety and the public interest require the adoption of the rule as proposed.

Regulatory Impact

In the NPRM, we estimated that 6,000 helicopters would be affected by this AD; however, only 2,200 helicopters are currently on the U.S. registry. It will take approximately 0.5 work hours per helicopter to inspect and 2 work hours to modify the assembly, and that the average labor rate is $60 per work hour. Based on these figures, the total cost impact of the AD on U.S. operators is estimated to be $330,000.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action ”under Executive Order 12866; (2) is not a “significant rule ”under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption “ADDRESSES.”

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new airworthiness directive:

Federal Aviation Administration (FAA)
Airworthiness Directive (AD) 2001-02-03
Docket No. 2000-SW-34-AD, Amendment 39-12087
Bell Helicopter Textron Canada
Subject: Inspecting and Modifying Collective Lever Assemblies
(a) Effective Date | Effective March 9, 2001.
(b) Affected Documents | None.
(c) Applicability | Bell Helicopter Textron Canada Model 206A (serial numbers (S/N) 004 through 660 and 672 through 715); 206B (S/N 661 through 671, 716 through 4529, and 5101 through 5267); 206L (S/N 45004 through 45153, and 46601 through 46617); 206L1 (S/N 45154 through 45790); and 206L3 (S/N 51001 through 51612) helicopters, with a collective lever assembly (assembly), part number (P/N) 206-010-467-001, installed, certificated in any category.
(d) Unsafe Condition and Background Information | A raised forging boss could interfere with the control system. That could damage flight controls and cause loss of control of the helicopter.
(e) Compliance | Unless previously accomplished, inspect each assembly within 30 days. Modify any assembly that has a raised forging boss. Modify the assembly before further flight if the clearance is 0.060 inch (1.52mm) or less or before further flight after January 31, 2001 if the clearance is greater than 0.060 inch (1.52mm).
(f) Required Actions | (1) Within 30 days: (i) Inspect each assembly for a raised forging boss in accordance with the Accomplishment Instructions, Part I, paragraphs 1.a., of Bell Helicopter Textron Alert Service Bulletin Nos. 206L-00-116, dated March 10, 2000 (ASB 206L), or 206-00-93, Revision A, dated May 10, 2000 (ASB 206), as applicable, and (ii) If the assembly has a raised forging boss, inspect for clearance in accordance with the Accomplishment Instructions, Part I, paragraphs 2.a. through f., of ASB 206L or ASB 206, as applicable. (2) Modify each assembly in accordance with the Accomplishment Instructions, Part II, paragraphs 1 through 10, of ASB 206L or ASB 206, as applicable, as follows: (i) If the clearance is 0.060 inch (1.52mm) or less at one of the outer ring horns, before further flight. (ii) If the clearance is greater than 0.060 inch (1.52mm) at one of the outer ring horns, before further flight after January 31, 2001.
(g) Other Provisions | (1) Alternative Methods of Compliance (AMOC): (i) You may use an AMOC or adjust the time you take to meet the requirements of this AD if your alternative provides an acceptable level of safety and if the Manager, Regulations Group, approves your alternative. (ii) Submit your request for approval through an FAA Principal Maintenance Inspector, who may add comments and then send it to the Manager, Regulations Group. (iii) You can get information about the existence of already approved AMOC's from the FAA, Rotorcraft Directorate, Regulations Group, 2601 Meacham Blvd., Fort Worth, Texas 76137. (2) Modifications, Alterations, or Repairs: This AD applies to each helicopter identified in the applicability paragraph, even if it has been modified, altered, or repaired in the area subject to this AD. If that change in any way affects accomplishing the required actions, you must request FAA approval for an AMOC. Your request should assess the effect of the change on the unsafe condition addressed by this AD. (3) Special Flight Permits: The FAA may issue you a special flight permit under 14 CFR 21.197 and 21.199 to operate your helicopter to a location where you can comply with this AD.
(h) Incorporation by Reference | You must accomplish the inspections and modifications in accordance with Part I, paragraphs 1.a. and 2.a. through f.. and Part II, paragraphs 1 through 10,of Bell Helicopter Textron Alert Service Bulletin Nos. 206L-00-116, dated March 10, 2000, or 206-00-93, Revision A, dated May 10, 2000, as applicable. The Director of the Federal Register approved this incorporation by reference under 5 U.S.C. 552(a) and 1 CFR part 51. If you need a copy of the service bulletin, contact Bell Helicopter Textron Canada, 12,800 Rue de l’Avenir, Mirabel, Quebec JON1LO, telephone (450) 437-2862 or (800) 363-8023, fax (450) 433-0272. You can review a copy of the service bulletin at the FAA, Office of the Regional Counsel, Southwest Region, 2601 Meacham Blvd., Room 663, Fort Worth, TX; or at the Office of the Federal Register, 800 North Capitol Street, NW, suite 700, Washington DC.
(i) Related Information | Transport Canada AD No. CF-2000-13, dated May 23, 2000.

Issued in Fort Worth, Texas on January 18, 2001.
Henry A. Armstrong,
Manager, Rotorcraft Directorate, Aircraft Certification Service.

[FR Doc. 01-2427 Filed 2-1-01; 8:45 am]

BILLING CODE 4910-13-S